DEPARTMENT OF COMMERCE

International Trade Administration

[A-533-843, A-570-901]

Certain Lined Paper Products From India and the People's Republic of China: Final Results of Expedited Second Sunset Reviews of Antidumping Duty Orders

AGENCY: Enforcement and Compliance, International Trade Administration, Department of Commerce.

SUMMARY: As a result of this sunset review, the Department of Commerce (the Department) finds that revocation of the antidumping duty (AD) orders on certain lined paper products (CLPP) from India and the People's Republic of China (PRC) would be likely lead to the continuation or recurrence of dumping at the rates identified in the “Final Results of Review” section of this notice.

DATES: Applicable: November 8, 2017.

FOR FURTHER INFORMATION CONTACT: Cindy Robinson, AD/CVD Operations, Office III, Enforcement and Compliance, International Trade Administration, U.S. Department of Commerce, 1401 Constitution Avenue NW., Washington, DC 20230; telephone (202) 482-3797.

SUPPLEMENTARY INFORMATION:

Background

On September 28, 2006, the Department published in the Federal Register the AD Orders on CLPP from India and the PRC.¹ On July 3, 2017, pursuant to section 751(c) of the Tariff Act of 1930, as amended (the Act), the Department initiated the second sunset reviews of the AD Orders on CLPP from India and the PRC.² On July 18, 2017, the Department received a notice of intent to participate in these reviews from the Association of American School Paper Suppliers (AASPS) and its individual members ³ (collectively, petitioner), within the deadline specified in 19 CFR 351.218(d)(1)(i).⁴ The petitioner comprises manufacturers of a domestic like product in the United States and, accordingly, are domestic interested parties pursuant to section 771(9)(C) of the Act.⁵

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Orders).

² See Initiation of Five-Year (Sunset) Reviews, 82 FR 30844 (July 3, 2017) (CLPP Sunset 2017).

³ See AASPS' letter re: Certain Lined Paper Products from India: Notification of Membership Change, dated May 1, 2012, indicates that its individual members include: Mead Products LLC (which is a direct, wholly-owned subsidiary of ACCO Brands Corporation.), Norcom, Inc., and Top Flight, Inc. (collectively, the petitioners).

⁴ See the petitioners' letter re: Certain Lined Paper Products from India: Notice of Intent to Participate in Sunset Review, dated July 18, 2017. See also the petitioners' letter re: Certain Lined Paper Products from the People's Republic of China: Notice of Intent to Participate in Sunset Review, dated July 18, 2017.

⁵ Id. The petitioner claimed interested party status for this sunset review under section 771(9)(C) of the Act.

On August 2, 2017, the Department received an adequate substantive response to the notice of initiation from the petitioner within the 30-day deadline specified in 19 CFR 351.218(d)(3)(i).⁶ However, the Department did not receive any timely filed responses from the respondent interested parties, i.e., CLPP producers and exporters from India and the PRC. On the basis of the notices of intent to participate and the adequate substantive responses filed by the petitioner, and the inadequate response from any respondent interested party, the Department has conducted expedited (120-day) reviews of the AD Orders with respect to India and the PRC, pursuant to section 751(c)(3)(B) of the Act and 19 CFR 351.218(e)(1)(ii)(C)(2).

⁶ See the petitioner's letter re: Certain Lined Paper Products from India: Substantive Response to Notice of Initiation of Sunset Review, dated July 18, 2017. See also the petitioners' letter re: Certain Lined Paper Products from the People's Republic of China: Substantive Response to Notice of Initiation of Sunset Review, dated July 18, 2017.

Scope of the Orders

The merchandise covered by the Orders ⁷ is certain lined paper products from India and the PRC. The merchandise subject to the orders is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁸

⁷ See Orders.

⁸ For a complete description of the Scope of the Orders, see Memorandum, “Issues and Decision Memorandum for the Final Results of the Expedited Sunset Review of the Antidumping Duty Orders on Certain Lined Paper Products from India and the People's Republic of China” dated concurrently with and hereby adopted by this notice (Issues and Decision Memorandum).

Analysis of Comments Received

All issues raised in these reviews are addressed in the Issues and Decision Memorandum, including the following: (1) The likelihood of continuation or recurrence of dumping and the magnitude of dumping and (2) the magnitude of the margins likely to prevail if the AD Orders were revoked.⁹ Parties can find a complete discussion of all issues raised in this review and the corresponding recommendation in the Issues and Decision Memorandum which is on file electronically via Enforcement and Compliance's Antidumping and Countervailing Duty Centralized Electronic Service System (ACCESS). ACCESS is available to registered users at https://access.trade.gov and is available to all parties in the Central Records Unit, Room B8024 of the main Department of Commerce building. In addition, a complete version of the Issues and Decision Memorandum can be accessed directly on the internet at http://enforcement.trade.gov/frn. The signed Issues and Decision Memorandum and the electronic version of the Issues and Decision Memorandum are identical in content.

⁹ Id.

Final Results of Sunset Review

Pursuant to sections 751(c)(1) and 752(c)(1) and (3) of the Act, the Department determines that revocation of the AD Orders on CLPP from India and the PRC would be likely to lead to continuation or recurrence of dumping. We determine that the weighted-average percentage dumping margins likely to prevail are up to the following percentages:

Country | Weighted- average dumping margin (percent)
India | 23.17
The People's Republic of China | 258.21

Notification Regarding Administrative Protective Order

This notice also serves as the only reminder to parties subject to administrative protective order (APO) of their responsibility concerning the disposition of proprietary information disclosed under APO in accordance with 19 CFR 351.305(a). Timely written notification of the destruction of APO materials or conversion to judicial protective orders is hereby requested. Failure to comply with the regulations and terms of an APO is a violation which is subject to sanction.

The Department is issuing and publishing these final results and notice in accordance with sections 751(c), 752(c), and 777(i)(1) of the Act and 19 CFR 351.218.

Dated: October 31, 2017.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins Likely To Prevail

VII. Final Results of Sunset Review

VIII. Recommendation

[FR Doc. 2017-24188 Filed 11-7-17; 8:45 am]

BILLING CODE 3510-DS-P